FEDERAL LABOR RELATIONS AUTHORITY

Privacy Act of 1974; Publication of Proposed Amendments to Six Existing Systems of Records; Introduction of a New System of Records; Rescindment of Eleven Systems of Records; Request for Comments

AGENCY: Federal Labor Relations Authority (FLRA).

ACTION: Notice of amendments to six existing systems of records; introduction of a new system of records; and rescindment of eleven systems of records.

SUMMARY: The Privacy Act of 1974 requires that each agency publish notice of all the systems of records that it maintains. This document proposes the amendment of six of the FLRA's existing systems of records, the introduction of a new system of records, and the rescindment of eleven systems of records that are no longer in use or that are covered by government-wide system of records notices. With the proposed addition and rescindment of systems, the FLRA will maintain seven systems of records. Additional details are provided under Supplementary Information, below.

DATES: This action will be effective without further notice on November 27, 2017 unless comments are received that would result in contrary determinations.

ADDRESSES: Mail or deliver comments to Gina K. Grippando, Counsel for Regulatory and Public Affairs, Federal Labor Relations Authority, 1400 K Street NW., Washington, DC 20424; or email EngagetheFLRA@flra.gov.

FOR FURTHER INFORMATION CONTACT: Fred B. Jacob, Solicitor and Senior Agency Official for Privacy, Federal Labor Relations Authority, 1400 K Street NW., Washington, DC 20424; (202) 218-7999; fax: (202) 343-1007; or email solmail@flra.gov.

SUPPLEMENTARY INFORMATION: Pursuant to the Privacy Act of 1974, 5 U.S.C. 552a, the FLRA hereby publishes notice of updates to its systems of records. See 5 U.S.C. 552a(e)(4). This document proposes the amendment of six systems of records, the introduction of a new system of records, and the rescindment of eleven systems of records, bringing the FLRA's total number of systems of records to seven. This notice first provides a summary of the six amended systems of records, the new system of records, and the eleven systems of records proposed for rescindment, and then provides the text of each of the amended and new systems of records.

1. In the first proposed amendment to a system of records, the FLRA proposes to amend FLRA/Internal-2-Appeal and Administrative Review Records by updating the system location and the organizational title and address of the system manager. The system is being updated further to reflect that information is maintained on electronic and paper media, and that electronic records are maintained in a password-protected automated system, with access limited to personnel whose duties require access. In addition, the system is being amended to reflect that burning is no longer a method of record disposal.

2. In the second proposed amendment to a system of records, the FLRA proposes to amend FLRA/Internal-3-Complaints and Inquiries Records by updating the system location and the organizational title and address of the system manager. The system is being updated further to reflect that information is maintained on electronic and paper media, and that electronic records are maintained in a password-protected automated system, with access limited to personnel whose duties require access. In addition, the system is being amended to reflect that burning is no longer a method of record disposal.

3. In the third proposed amendment to a system of records, the FLRA proposes to amend FLRA/Internal-6-Grievance Records by updating the system location and the organizational title and address of the system manager. The system is being updated further to reflect that information is maintained on electronic and paper media, and that electronic records are maintained in a password-protected automated system, with access limited to personnel whose duties require access. In addition, the system is being amended to: (1) Reflect that burning no longer is a method of record disposal; and (2) change the record-retention period from three years after closing of the case to four to seven years after closing of the case, as required by the National Archives and Records Administration (NARA) General Records Schedule 30, item 30a.

4. In the fourth proposed amendment to a system of records, the FLRA proposes to amend FLRA/Internal-10-Employee Locator Card Files by updating the system name to FLRA/Internal-10-Organization Management and Locator System, the system location, and the organizational title and address of the system manager. The system is being updated further to reflect that information is maintained on electronic media.

5. In the fifth amendment to a system of records, the FLRA proposes to amend FLRA/Internal-15-Pay, Leave and Travel Records by amending its name to FLRA/Internal-15-Personnel and Payroll System Records and removing all references to travel records, which FLRA no longer maintains. Rather, the FLRA's travel records are maintained in a system operated by a contractor and, therefore, are covered by a government-wide System of Records Notice: GSA/GOVT-4, Contracted Travel Services Program.

In addition, the FLRA proposes to amend this system of records to reflect updates to FLRA payroll and personnel data processes and services. The FLRA maintains FLRA/Internal-15-Personnel and Payroll System Records to manage payroll and personnel data for FLRA employees, ensure proper payment of salary and benefits to FLRA personnel, and track time worked and leave or other absences for reporting and compliance purposes. The FLRA has entered into an agreement with the Department of the Interior (DOI) Interior Business Center (IBC), a Federal agency shared service provider, to provide payroll and personnel processing services through DOI's Federal Personnel and Payroll System (FPPS). Although DOI will host and process payroll and personnel data on behalf of the FLRA, the FLRA will retain ownership and control over its own data. The FLRA has included a routine use in this notice to permit sharing of records with DOI for hosting and support services. Individuals seeking access to their records owned and maintained by the FLRA must submit their requests to the FLRA as outlined in the Record Access Procedures, Contesting Record Procedures, and Notification Procedures sections in the amended SORN.

6. In the sixth amendment to a system of records, the FLRA proposes to amend FLRA/OIG-1-Office of the Inspector General Investigative Files by updating the system location and the organizational title and address of the system manager. The system is being updated further to reflect that information is maintained on electronic media. In addition, the system is being amended to reflect that the FLRA obtained approval from NARA to modify the system's records-retention period such that only certain types of records must be retained permanently. Also, the contact for notification, record access, and contesting record procedures has been changed from the Office of the Solicitor to the Office of the Inspector General.

7. The new system of records is entitled FLRA/Internal-17-Freedom of Information Act Request and Appeal Files. This system contains records concerning the FLRA's Freedom of Information Act program.

8. The FLRA proposes to rescind eleven systems of records that are no longer in use by the FLRA or that are covered by government-wide system of records notices.

a. The first system of records, FLRA/Internal-1-Employee Occupational Health Program Records, is proposed for rescindment because the FLRA no longer collects or retains data on FLRA employees using health services under the Federal Employees Group Health Program. Instead, the Federal Occupational Health (FOH)/Department of Health and Human Services (HHS) is now the custodian of these records, and those records are covered under OPM/GOVT-10 Employee Medical File System Records.

b. The second system of records proposed for rescindment, FLRA/Internal-4-Applicants for Employment Records, is proposed for rescindment because those records are covered under OPM/GOVT-5 Recruiting, Examining, and Placement Records, and a separate FLRA System of Records would be duplicative.

c. The third system of records proposed for rescindment, FLRA/Internal-5-Preemployment Inquiry Records, is proposed for rescindment because those records are covered under OPM/GOVT-5 Recruiting, Examining, and Placement Records, and a separate FLRA System of Records would be duplicative.

d. The fourth system of records proposed for rescindment, FLRA/Internal-7-Employee Incentive Award and Recognition Files, is proposed for rescindment because those records are covered under OPM/GOVT-2 Employee Performance File System Records, and a separate FLRA System of Records would be duplicative.

e. The fifth system of records, FLRA/Internal-8-Employee Assistance Program Records, is proposed for rescindment because the FLRA no longer collects or retains data on FLRA employees using Employee Assistance Program (EAP) services. Instead, FOH/HHS is the custodian of these records, and it has published HHS System of Records Notice, 09-90-0010, EAP Records, which covers Federal employees and their family members using EAP through contractual agreement between HHS and their organizations.

f. The sixth system of records, FLRA/Internal-9-Federal Executive Development Program Records, is proposed for rescindment because the FLRA no longer runs a Federal Executive Development Program and, if it did run such a program in the future, the FLRA would retain such records under OPM/GOVT-1 General Personnel Records.

g. The seventh system of records proposed for rescindment, FLRA/Internal-11-Training Records, is proposed for rescindment because those records are covered under OPM/GOVT-1 General Personnel Records, and a separate FLRA System of Records would be duplicative.

h. The eighth system of records proposed for rescindment, FLRA/Internal-12-Performance Evaluation/Rating Records, is proposed for rescindment because the FLRA retains such records under OPM/GOVT-2 Employee Performance File System Records, and a separate FLRA System of Records would be duplicative.

i. The ninth system of records proposed for rescindment, FLRA/Internal-13-Intern Program and Upward Mobility Program Records, contains intern recruiting information pertaining to the internship program covered under OPM/GOVT-5 Recruiting, Examining, and Placement Records, and a separate FLRA System of Records would be duplicative. The FLRA no longer runs an Upward Mobility Program or retains records of such a program.

j. The tenth system of records, FLRA/Internal-14-Motor Vehicle Accident Reports, is proposed for rescindment because the FLRA no longer possesses any such records. Records previously maintained under this system have been destroyed.

k. The eleventh system of records, FLRA/Internal-16-Occupational Injury and Illness Records, is proposed for rescindment because the FLRA retains such records under DOL/GOVT-1 Office of Worker's Compensation Programs, Federal Employees' Compensation Act File, and a separate FLRA System of Records would be duplicative.

The public, the Office of Management and Budget (OMB), and the Congress are invited to submit written comments on the new system of records, the proposed amendments to the six existing systems of records, and the proposed rescindment of the eleven systems of records. A report on the proposed amendments, additions, and rescindments to the FLRA's systems of records has been provided to OMB and Congress as required by OMB Circular A-108, and 5 U.S.C. 552a(r).

Dated: October 24, 2017.
Michael Jeffries,
Acting Executive Director.

Notice of Changes to Systems of Records

Appeal and Administrative Review Records, FLRA/Internal-2.

SECURITY CLASSIFICATION:

Unclassified.

SYSTEM LOCATION:

Human Resources Division, Federal Labor Relations Authority (FLRA), 1400 K Street NW., Washington, DC 20424.

SYSTEM MANAGER:

Director, Human Resources Division, Federal Labor Relations Authority, 1400 K Street NW., Washington, DC 20424.

AUTHORITY FOR MAINTENANCE OF THE SYSTEM:

5 U.S.C. 1302, 3301, 3302, 4305, 5115, 5335, 7501, 7512; and Executive Order 10577.

PURPOSE OF THE SYSTEM:

These records are used to process miscellaneous appeals and administrative reviews submitted by FLRA employees.

CATEGORIES OF INDIVIDUALS COVERED BY THE SYSTEM:

Current and former FLRA employees.

CATEGORIES OF RECORDS IN THE SYSTEM:

This system contains records relating to various internal appeal or administrative reviews submitted by FLRA employees as well as decisions made in individual employee cases pursuant to those procedures. The system also contains records and documentation of the action upon which the appeal or review decision was based.

RECORD SOURCE CATEGORIES:

Information in this system of records is provided by:

a. The individual to whom the records pertain.

b. FLRA officials involved in the appeal or administrative procedure.

c. Other official personnel records of the FLRA.

ROUTINE USES OF RECORDS MAINTAINED IN THE SYSTEM, INCLUDING CATEGORIES OF USERS AND THE PURPOSES OF SUCH USES:

In addition to the disclosure generally permitted under 5 U.S.C. 552a(b) of the Privacy Act, these records or information in these records may be used pursuant to 5 U.S.C. 552a(b)(3):

a. To disclose pertinent information to the appropriate Federal, State, or local agency responsible for investigating, prosecuting, enforcing, or implementing a statute, rule, regulation, or order, when the FLRA becomes aware of an indication of a violation or potential violation of civil or criminal law or regulation.

b. To disclose information to any source from whom additional information is requested in the course of processing an appeal or administrative review procedure, to the extent necessary to identify the individual, inform the source of the purpose(s) of the request, and identify the type of information requested.

c. To disclose information to a Federal agency, in response to its request, in connection with the hiring or retention of an employee, the issuance of a security clearance, a security or suitability investigation of an individual, the classifying of jobs, the letting of a contract, or the issuance of a license, grant, or other benefit by the requesting agency, to the extent that the information is relevant and necessary to the requesting agency's decision on the matter.

d. To provide information to a congressional office from the record of an individual in response to an inquiry from that congressional office made at the request of that individual.

e. In an appropriate proceeding before a court, grand jury, or administrative or adjudicative body, when the FLRA determines that the records are arguably relevant to the proceeding, or in an appropriate proceeding before an administrative or adjudicative body when the adjudicator determines the records to be relevant to the proceeding.

f. To disclose information to the National Archives and Records Administration in records management inspections conducted under authority of 44 U.S.C. 2904 and 2906.

g. To disclose information to the Office of Personnel Management in the production of summary descriptive statistics and analytical studies in support of the function for which the records are collected and maintained, or for related work-force studies. While published statistics and studies do not contain individual identifiers, in some instances, the selection of elements of data included in the study may be structured in such a way as to make the data individually identifiable by inference.

h. To disclose, in response to a request for discovery or for appearance of a witness, information that is relevant to the subject matter involved in a pending judicial or administrative proceeding.

i. To disclose information to officials of: The Merit Systems Protection Board, the Office of Special Counsel, or the Equal Employment Opportunity Commission, when requested in performance of their authorized duties.

j. To appropriate agencies, entities, and persons when (1) the FLRA suspects or has confirmed that there has been a breach of the system of records; (2) the FLRA has determined that as a result of the suspected or confirmed breach there is a risk of harm to individuals, the FLRA (including its information systems, programs, and operations), the Federal Government, or national security; and (3) the disclosure made to such agencies, entities, and persons is reasonably necessary to assist in connection with the FLRA's efforts to respond to the suspected or confirmed breach or to prevent, minimize, or remedy such harm.

k. To another Federal agency or Federal entity, when the FLRA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

l. To contractors, grantees, experts, consultants, students, and others performing or working on a contract, service, grant, cooperative agreement, or other assignment for the federal government, when necessary to accomplish an agency function related to this system of records.

m. To such recipients and under such circumstances and procedures as are mandated by federal statute or treaty.

POLICIES AND PRACTICES FOR STORAGE OF RECORDS:

These records are maintained on paper and electronic media.

POLICIES AND PRACTICES FOR RETRIEVAL OF RECORDS:

These records are retrieved by the names of the individuals on whom they are maintained.

POLICIES AND PRACTICES FOR RETENTION AND DISPOSAL OF RECORDS:

Adverse action appeals processed under the FLRA's internal appeals systems are retained for seven years after the closing of the case and other records in the system are maintained for a maximum of four years after the closing of the case, in accordance with items 10-12, of General Records Schedule 1, as approved by the Archivist of the United States. Disposal is by shredding.

ADMINISTRATIVE, TECHNICAL, AND PHYSICAL SAFEGUARDS:

These records are maintained in a lockable filing system and/or in a password-protected automated system, with access limited to personnel whose duties require access.

RECORD ACCESS PROCEDURES:

Individuals involved in appeals and administrative review procedures are aware of that fact and have been provided access to the record. However, after the action has been closed, an individual may request access to the official copy of an appeal or administrative review procedure record by contacting the System Manager. Individuals must provide the following information for their records to be located and identified:

a. Full Name.

b. Date of birth.

c. Approximate date of closing of case and kind of action taken.

Individuals requesting access must also follow the FLRA's Privacy Act regulations regarding access to records (5 CFR 2412.5).

CONTESTING RECORD PROCEDURES:

Review of requests from individuals seeking amendment of their records that have previously been or could have been the subject of a judicial or quasi-judicial action will be limited in scope. Review of amendment requests of these cases will be restricted to determining whether the record accurately documents the action of the agency or administrative body ruling on the case, and it will not include a review of the merits of the action, determination, or finding.

Individuals wishing to request amendment of their records to correct factual errors should contact the System Manager. Individuals must furnish the following information for their records to be located and identified;

a. Full Name.

b. Date of birth.

c. Approximate date of closing of the case and kind of action taken.

Individuals requesting amendment must also follow the FLRA's Privacy Act regulations regarding amendment of records (5 CFR 2412.10).

NOTIFICATION PROCEDURES:

Individuals involved in appeals and administrative review procedures are aware of that fact and have been provided access to the record. They may, however, contact the System Manager indicated above. They must furnish the following information for their records to be located and identified:

a. Full Name.

b. Date of birth.

c. Approximate date of closing of the case and kind of action taken.

Individuals making inquiries must comply with the FLRA's Privacy Act regulations regarding the existence of records (5 CFR 2412.4).

EXEMPTIONS PROMULGATED FOR THE SYSTEM:

None.

HISTORY:

This system of records was last published at 45 FR 85316 (Dec. 24, 1980).

Complaints and Inquiries Records, FLRA/Internal-3.

SECURITY CLASSIFICATION:

Unclassified.

SYSTEM LOCATION:

Office of the Executive Director, Federal Labor Relations Authority (FLRA), 1400 K Street NW., Washington, DC 20424.

SYSTEM MANAGER:

Executive Director, Federal Labor Relations Authority, 1400 K Street NW., Washington, DC 20424.

AUTHORITY FOR MAINTENANCE OF THE SYSTEM:

Executive Order 11222.

PURPOSE OF THE SYSTEM:

These records are used to take an action on or respond to a complaint or inquiry concerning an FLRA employee or to counsel the employee.

CATEGORIES OF INDIVIDUALS COVERED BY THE SYSTEM:

Current FLRA employees about whom complaints or inquiries have been received.

CATEGORIES OF RECORDS IN THE SYSTEM:

This system contains information or correspondence concerning an individual's employment status or conduct while employed by the FLRA. Examples of these records include: Correspondence from Federal employees, Members of Congress, or members of the public alleging misconduct by an FLRA employee; miscellaneous debt correspondence received from creditors; and miscellaneous complaints not covered by the FLRA's formal or informal grievance procedures.

RECORD SOURCE CATEGORIES:

Information in this system of records is provided by:

a. The individual to whom the information pertains.

b. Federal employees, Members of Congress, creditors, or members of the public who submitted the complaint or inquiry.

c. FLRA officials.

d. Other sources from whom information was requested regarding the complaint or inquiry.

ROUTINE USES OF RECORDS MAINTAINED IN THE SYSTEM, INCLUDING CATEGORIES OF USERS AND THE PURPOSES OF SUCH USES:

In addition to the disclosure generally permitted under 5 U.S.C. 552a(b) of the Privacy Act, these records or information in these records may be used pursuant to 5 U.S.C. 552a(b)(3):

a. To disclose pertinent information to the appropriate Federal, State, or local agency responsible for investigating, prosecuting, enforcing, or implementing a statute, rule, regulation, or order, when the FLRA becomes aware of an indication of a violation or potential violation of civil or criminal law or regulation.

b. To disclose information to any source from whom additional information is requested (to the extent necessary to identify the individual, inform the source of the purpose of the request, and identify the type of information requested), where necessary to obtain information relevant to an FLRA decision concerning the hiring or retention of an employee, the issuance of a security clearance, conduct of a security or suitability investigation of an individual or classification of jobs.

c. To provide information to a congressional office from the record of an individual in response to an inquiry from that congressional office made at the request of that individual.

d. In an appropriate proceeding before a court, grand jury, or administrative or adjudicative body, when the FLRA determines that the records are arguably relevant to the proceeding, or in an appropriate proceeding before an administrative or adjudicative body when the adjudicator determines the records to be relevant to the proceeding.

e. To disclose information to the National Archives and Records Administration in records management inspections conducted under authority of 44 U.S.C. 2904 and 2906.

f. To disclose in response to a request for discovery or for appearance of a witness, information that is relevant to the subject matter involved in a pending judicial or administrative proceeding.

g. To disclose information to officials of: The Merit Systems Protection Board, the Office of Special Counsel, or the Equal Employment Opportunity Commission, when requested in performances of their authorized duties.

h. To appropriate agencies, entities, and persons when (1) the FLRA suspects or has confirmed that there has been a breach of the system of records; (2) the FLRA has determined that as a result of the suspected or confirmed breach there is a risk of harm to individuals, the FLRA (including its information systems, programs, and operations), the Federal Government, or national security; and (3) the disclosure made to such agencies, entities, and persons is reasonably necessary to assist in connection with the FLRA's efforts to respond to the suspected or confirmed breach or to prevent, minimize, or remedy such harm.

i. To another Federal agency or Federal entity, when the FLRA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

j. To contractors, grantees, experts, consultants, students, and others performing or working on a contract, service, grant, cooperative agreement, or other assignment for the federal government, when necessary to accomplish an agency function related to this system of records.

k. To such recipients and under such circumstances and procedures as are mandated by federal statute or treaty.

POLICIES AND PRACTICES FOR STORAGE OF RECORDS:

These records are maintained in file folders that are separate from the employee's Official Personnel Folder and also in electronic media.

POLICIES AND PRACTICES FOR RETRIEVAL OF RECORDS:

These records are retrieved by the name of the individual on whom they are maintained.

POLICIES AND PRACTICES FOR RETENTION AND DISPOSAL OF RECORDS:

These records are disposed of upon the transfer or separation of the employee or after one year, whichever is earlier, in accordance with item 010 of General Records Schedule 6.5, as approved by the Archivist of the United States. Disposal is by shredding.

ADMINISTRATIVE, TECHNICAL, AND PHYSICAL SAFEGUARDS:

These records are located in a lockable filing system and/or a password-protected automated system, with access limited to personnel whose official duties require access.

RECORD ACCESS PROCEDURES:

FLRA employees wishing to request access to their records should contact the System Manager. Individuals must furnish the following information for their records to be located and identified:

a. Full Name.

b. Date of birth.

Individuals requesting access must also comply with the FLRA's Privacy Act regulations regarding access to records (5 CFR 2412.5).

CONTESTING RECORD PROCEDURES:

FLRA employees wishing to request amendment of their records should contact the System Manager. Individuals must furnish the following information for their records to be located and identified:

a. Full Name.

b. Date of birth.

Individuals must also comply with the FLRA's Privacy Act regulations regarding amendment of records (5 CFR 2412.10).

NOTIFICATION PROCEDURES:

FLRA employees wishing to inquire whether this system contains information about them should contact the System Manager. Individuals must furnish the following information for their records to be located and identified:

a. Full Name.

b. Date of birth.

Individuals making inquiries must comply with the FLRA's Privacy Act regulations regarding the existence of records (5 CFR 2412.4).

EXEMPTIONS PROMULGATED FOR THE SYSTEM:

None.

HISTORY:

This system of records was last published at 45 FR 85316 (Dec. 24, 1980)

Grievance Records, FLRA/Internal-6.

SECURITY CLASSIFICATION:

Not applicable.

SYSTEM LOCATION:

Office of the Executive Director, Federal Labor Relations Authority (FLRA), 1400 K Street NW., Washington, DC 20424.

SYSTEM MANAGER:

Executive Director, Federal Labor Relations Authority, 1400 K Street NW., Washington, DC 20424.

AUTHORITY FOR MAINTENANCE OF THE SYSTEM:

5 U.S.C. 1302, 3301, and 3302.

PURPOSE OF THE SYSTEM:

These records are used to store and document grievances based on employee dissatisfaction relative to actions taken within the discretion of the FLRA.

CATEGORIES OF INDIVIDUALS COVERED BY THE SYSTEM:

Current or former Federal employees who have submitted grievances with the FLRA pursuant to Office of Personnel Management regulations regarding Agency Administrative Grievance Systems (5 CFR part 771).

CATEGORIES OF RECORDS IN THE SYSTEM:

The system contains records relating to grievances filed by agency employees under 5 CFR part 771 and the FLRA's internal regulations. These case files contain all documents related to the grievance, including statements of witnesses, reports of interviews and hearings, examiner's findings and recommendations, a copy of the original decision, and related correspondence and exhibits. This system includes files and records of internal grievances, and of arbitration systems that may be established through negotiations with the union representing agency employees.

RECORD SOURCE CATEGORIES:

Information in this system of records is provided by:

a. The individual on whom the record is maintained.

b. Testimony of witnesses.

c. Agency officials.

d. Organizations or persons providing related correspondence.

ROUTINE USES OF RECORDS MAINTAINED IN THE SYSTEM, INCLUDING CATEGORIES OF USERS AND THE PURPOSES OF SUCH USES:

In addition to the disclosure generally permitted under 5 U.S.C. 552a(b) of the Privacy Act, these records or information in these records may be used pursuant to 5 U.S.C. 552a(b)(3):

a. To disclose pertinent information to the appropriate Federal, State, or local agency responsible for investigating, prosecuting, enforcing, or implementing a statute, rule, regulation, or order, where the FLRA becomes aware of an indication of a violation or potential violation of civil or criminal law or regulation.

b. To disclose information to any source from whom additional information is requested in the course of processing a grievance, to the extent necessary to identify the individual, inform the source of the purpose(s) of the request, and identify the type of information requested.

c. To disclose information to a Federal agency, in response to its request, in connection with the hiring or retention of an employee, the issuance of a security clearance, the conducting of a security or suitability investigation of an individual, the classifying of jobs, the letting of a contract, or the issuance of a license, grant, or other benefit by the requesting agency, to the extent that the information is relevant and necessary to requesting the agency's decision on the matter.

d. To provide information to a congressional office from the record of an individual in response to an inquiry from that congressional office made at the request of that individual.

e. In an appropriate proceeding before a court, grand jury, or administrative or adjudicative body, when the FLRA determines that the records are arguably relevant to the proceeding, or in an appropriate proceeding before an administrative or adjudicative body when the adjudicator determines the records to be relevant to the proceeding.

f. To disclose information to the National Archives and Records Administration in records management inspections conducted under authority of 44 U.S.C. 2904 and 2906.

g. To disclose information to officials of: The Merit Systems Protection Board, the Office of Special Counsel, or the Equal Employment Opportunity Commission, when requested in performance of their authorized duties.

h. To disclose, in response to a request for discovery or for appearance of a witness, information that is relevant to the subject matter involved in a pending judicial or administrative proceeding.

i. To provide information to officials of labor organizations recognized under the Civil Service Reform Act, when relevant and necessary to their duties of exclusive representation concerning personnel policies, practices, and matters affecting work conditions.

j. To appropriate agencies, entities, and persons when (1) the FLRA suspects or has confirmed that there has been a breach of the system of records; (2) the FLRA has determined that as a result of the suspected or confirmed breach there is a risk of harm to individuals, the FLRA (including its information systems, programs, and operations), the Federal Government, or national security; and (3) the disclosure made to such agencies, entities, and persons is reasonably necessary to assist in connection with the FLRA's efforts to respond to the suspected or confirmed breach or to prevent, minimize, or remedy such harm.

k. To another Federal agency or Federal entity, when the FLRA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

l. To contractors, grantees, experts, consultants, students, and others performing or working on a contract, service, grant, cooperative agreement, or other assignment for the federal government, when necessary to accomplish an agency function related to this system of records.

m. To such recipients and under such circumstances and procedures as are mandated by federal statute or treaty.

POLICIES AND PRACTICES FOR STORAGE OF RECORDS:

These records are maintained on paper and electronic media.

POLICIES AND PRACTICES FOR RETRIEVAL OF RECORDS:

These records are retrieved by the names of the individuals on whom they are maintained.

POLICIES AND PRACTICES FOR RETENTION AND DISPOSAL OF RECORDS:

These records are disposed of four-to-seven years after closing of the case, in accordance with item 60 of General Records Schedule 2.3, as approved by the Archivist of the United States. Disposal is by shredding.

ADMINISTRATIVE, TECHNICAL, AND PHYSICAL SAFEGUARDS:

These records are maintained in a lockable filing system and in a password-protected automated system, with access limited to personnel whose official duties require access.

RECORD ACCESS PROCEDURES:

Individuals submitting grievances must be provided a copy of the record under the grievance process. However, after the action has been closed, an individual may request access to the official copy of the grievance file by contacting the System Manager. Individuals must provide the following information for their records to be located and identified:

a. Full Name.

b. Date of birth.

c. Approximate date of closing of the case and kind of action taken.

d. Organizational component involved.

Individuals requesting access must also follow the FLRA's Privacy Act regulations regarding access to records (5 CFR 2412.5).

CONTESTING RECORD PROCEDURES:

Review of requests from individuals seeking amendment of their records that have been the subject of a judicial or quasi-judicial action will be limited in scope. Review of amendment requests of these records will be restricted to determining whether the record accurately documents the action of the agency ruling on the case, and it will not include a review of the merits of the action, determination, or finding. Individuals wishing to request amendment to their records of correct factual errors should contact the System Manager. They must provide the following information for their records to be located and identified:

a. Full Name.

b. Date of birth.

c. Approximate date of closing of the case and kind of action taken.

d. Organizational component involved.

Individuals requesting amendment must follow the FLRA's Privacy Act regulations regarding amendment to records (5 CFR 2412.10).

NOTIFICATION PROCEDURES:

Individuals submitting grievances must be provided a copy of the record under the grievance process. They may, however, contact the System Manager. They must furnish the following information for their records to be located and identified:

a. Full Name.

b. Date of birth.

c. Approximate date of closing of the case and kind of action taken.

d. Organizational component involved.

Individuals making inquiries must comply with the FLRA's Privacy Act regulations regarding the existence of records (5 CFR 2412.4).

EXEMPTIONS PROMULGATED FOR THE SYSTEM:

None.

HISTORY:

This system of records was last published at 45 FR 85316 (Dec. 24, 1980)

Organization Management and Locator System, FLRA/Internal-10.

SECURITY CLASSIFICATION:

Not applicable.

SYSTEM LOCATION:

Administrative Services Division, Federal Labor Relations Authority (FLRA), 1400 K Street NW. Washington, DC 20424.

SYSTEM MANAGER:

Director, Administrative Services Division, Federal Labor Relations Authority, 1400 K Street NW., Washington, DC 20424.

AUTHORITY FOR MAINTENANCE OF THE SYSTEM:

5 U.S.C. 301 and 44 U.S.C. 3101 and 3301.

PURPOSE OF THE SYSTEM:

Information is collected for this system for use in preparing telephone directories of the office telephone extensions of FLRA employees. The records also serve to identify contact information for an employee for continuity of operations purposes, or if an emergency of a medical or other nature involving the employee occurs while the employee is on the job. These records may also be used to locate individuals for personnel research.

CATEGORIES OF INDIVIDUALS COVERED BY THE SYSTEM:

Employees of the FLRA.

CATEGORIES OF RECORDS IN THE SYSTEM:

This system contains information regarding the organizational location, telephone extension, and office email address of individual FLRA employees. The system also contains the home address, email, and telephone numbers of the employee.

RECORD SOURCE CATEGORIES:

Information in this system of records is provided by the individual who is the subject of the record.

ROUTINE USES OF RECORDS MAINTAINED IN THE SYSTEM, INCLUDING CATEGORIES OF USERS AND THE PURPOSES OF SUCH USES:

In addition to the disclosure generally permitted under 5 U.S.C. 552a(b) of the Privacy Act, these records or information in these records may be used pursuant to 5 U.S.C. 552a(b)(3):

a. To provide information to a congressional office from the record of an individual in response to an inquiry from that congressional office made at the request of that individual.

b. In an appropriate proceeding before a court, grand jury, or administrative or adjudicative body, when the FLRA determines that the records are arguably relevant to the proceeding, or in an appropriate proceeding before an administrative or adjudicative body when the adjudicator determines the records to be relevant to the proceeding.

c. To disclose, in response to a request for discovery or for appearance of a witness, information that is relevant to the subject matter involved in a pending judicial or administrative proceeding.

d. To appropriate agencies, entities, and persons when (1) the FLRA suspects or has confirmed that there has been a breach of the system of records; (2) the FLRA has determined that as a result of the suspected or confirmed breach there is a risk of harm to individuals, the FLRA (including its information systems, programs, and operations), the Federal Government, or national security; and (3) the disclosure made to such agencies, entities, and persons is reasonably necessary to assist in connection with the FLRA's efforts to respond to the suspected or confirmed breach or to prevent, minimize, or remedy such harm.

e. To another Federal agency or Federal entity, when the FLRA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

f. To contractors, grantees, experts, consultants, students, and others performing or working on a contract, service, grant, cooperative agreement, or other assignment for the federal government, when necessary to accomplish an agency function related to this system of records.

g. To such recipients and under such circumstances and procedures as are mandated by federal statute or treaty.

POLICIES AND PRACTICES FOR STORAGE OF RECORDS:

These records are maintained on electronic media.

POLICIES AND PRACTICES FOR RETRIEVAL OF RECORDS:

These records are retrieved by the name of the individual on whom they are maintained.

POLICIES AND PRACTICES FOR RETENTION AND DISPOSAL OF RECORDS:

These records are maintained as long as the individual is an employee of the FLRA, in accordance with item 20 of General Records Schedule 5.3, as approved by the Archivist of the United States. Expired records are destroyed by deletion of all electronic records.

ADMINISTRATIVE, TECHNICAL, AND PHYSICAL SAFEGUARDS:

Home addresses, emails, and contact information for employees are maintained in a password-protected system, with access limited to personnel whose duties require access.

RECORD ACCESS PROCEDURES:

FLRA employees wishing to request access to records about them should contact the System Manager. Individuals must supply their full name for their records to be located and identified.

Individuals requesting access must comply with the FLRA's Privacy Act regulations regarding access to records (5 CFR 2412.5).

CONTESTING RECORD PROCEDURES:

FLRA employees may amend information in these records at any time by resubmitting updated information to the System Manager. Individuals wishing to request amendment of their records under the provisions of the Privacy Act should contact the System Manger. Individuals must supply their full name for their records to be located and identified.

Individuals requesting amendment must follow the FLRA's Privacy Act regulations regarding amendment of records (5 CFR 2412.10).

NOTIFICATION PROCEDURES:

FLRA employees wishing to inquire whether this system contains information about them should contact the System Manager. Individuals must supply their full name for their records to be located and identified.

Individuals making inquiries must comply with the FLRA's Privacy Act regulations regarding the existence of records (5 CFR 2412.4).

EXEMPTIONS PROMULGATED FOR THE SYSTEM:

None.

HISTORY:

This system of records was last published at 45 FR 85316 (Dec. 24, 1980)

Personnel and Payroll System Records, FLRA/Internal-15.

SECURITY CLASSIFICATION:

Not applicable.

SYSTEM LOCATIONS:

FLRA/Internal-15-Personnel and Payroll System Records is centrally managed by the Human Resources Division, Federal Labor Relations Authority (FLRA), 1400 K Street NW., Washington, DC 20424. The FLRA has entered into an agreement with the Department of the Interior (DOI) Interior Business Center (IBC), a Federal agency shared service provider, to provide payroll and personnel processing services through DOI's Federal Personnel and Payroll System (FPPS). Electronic payroll and personnel records processed through FPPS are located at the U.S. Department of the Interior, Interior Business Center, Human Resources and Payroll Services, 7301 W. Mansfield Ave., MS D-2000, Denver, CO 80235.

SYSTEM MANAGER:

The FLRA's Director, Human Resources Division, Federal Labor Relations Authority, 1400 K Street, NW., Washington, DC 20424, manages the FLRA's FPPS account.

AUTHORITY FOR MAINTENANCE OF THE SYSTEM:

36 U.S.C. 2102; 5 U.S.C. Chapter 55; 5 CFR part 293; and Executive Order 9397 as amended by Executive Order 13478, relating to Federal agency use of Social Security numbers.

PURPOSE OF THE SYSTEM:

The purpose of the system is to allow the FLRA to collect and maintain records on current and former employees to ensure proper payment for salary and benefits, and to track time worked, leave, or other absences for reporting and compliance purposes.

CATEGORIES OF INDIVIDUALS COVERED BY THE SYSTEM:

The system maintains records concerning current and former FLRA employees, including volunteers and emergency employees, and limited information regarding employee spouses, dependents, emergency contacts, or in the case of an estate, a trustee who meets the definition of “individual” as that term is defined in the Privacy Act.

CATEGORIES OF RECORDS IN THE SYSTEM:

This system maintains records including:

• Employee biographical and employment information: Employee name, other names used, citizenship, gender, date of birth, group affiliation, marital status, Social Security number (SSN), truncated SSN, legal status, place of birth, records related to position, occupation, duty location, security clearance, financial information, medical information, disability information, education information, driver's license, race/ethnicity, personal telephone number, personal email address, military status/service, mailing/home address, Taxpayer Identification Number, bank account information, professional licensing and credentials, family relationships, age, involuntary debt (garnishments or child support payments), employee common identifier (ECI), user identification and any other employment information.

• Third-party information: Spouse information, emergency contact, beneficiary information, savings bond co-owner name(s) and information, family members and dependents information.

• Salary and benefits information: Salary data, retirement data, tax data, deductions, health benefits, allowances, union dues, insurance data, Flexible Spending Account, Thrift Savings Plan contributions, pay plan, payroll records, awards, court order information, back pay information, debts owed to the government as a result of overpayment, refunds owed, or a debt referred for collection on a transferred employee or emergency worker.

• Timekeeping information: Time and attendance records, leave records, the system may also maintain records including other information required to administer payroll, leave, and related functions.

RECORD SOURCE CATEGORIES:

Information is obtained from individuals on whom the records are maintained, official personnel records of individuals on whom the records are maintained, supervisors, timekeepers, previous employers, the Internal Revenue Service and state tax agencies, the Department of the Treasury, other Federal agencies, courts, state child support agencies, employing agency accounting offices, and third-party benefit providers.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information maintained in this system may be disclosed to authorized entities outside FLRA for purposes determined to be relevant and necessary as a routine use pursuant to 5 U.S.C. 552a(b)(3) as follows:

a. To the Department of Justice (DOJ), including Offices of the U.S. Attorneys, or other Federal agencies conducting litigation or in proceedings before any court, adjudicative, or administrative body, when it is relevant or necessary to the litigation and one of the following is a party to the litigation or has an interest in such litigation:

(1) The FLRA;

(2) Any employee or former employee of FLRA in his or her official capacity;

(3) Any employee or former employee of FLRA in his or her individual capacity when DOJ or the FLRA has agreed to represent the employee; or

(4) The U.S. Government or any agency thereof.

b. To a congressional office in response to a written inquiry that an individual covered by the system, or the heir of such individual if the covered individual is deceased, has made to the office.

c. To the Office of Management and Budget (OMB) during the coordination and clearance process in connection with legislative affairs as mandated by OMB Circular A-19.

d. To other Federal agencies that provide payroll and personnel processing services under a cross-servicing agreement for purposes relating to FLRA employee payroll and personnel processing.

e. To another Federal agency as required for payroll purposes, including to the Department of the Treasury for preparation of payroll and to issue checks and electronic funds transfer.

f. To the Office of Personnel Management, the Merit Systems Protection Board, or the Equal Employment Opportunity Commission when requested in the performance of their authorized duties.

g. To appropriate Federal and state agencies to provide reports including data on unemployment insurance.

h. To State offices of unemployment compensation to assist in processing an individual's unemployment, survivor annuity, or health benefit claim, or for records reconciliation purposes.

i. To Federal employees' Group Life Insurance or Health Benefits carriers in connection with survivor annuity or health benefits claims or records reconciliations.

j. To the Internal Revenue Service and State and local tax authorities for which an employee is or was subject to tax regardless of whether tax is or was withheld in accordance with Treasury Fiscal Requirements, as required.

k. To the Internal Revenue Service or to another Federal agency or its contractor to disclose debtor information solely to aggregate information for the Internal Revenue Service to collect debts owed to the Federal government through the offset of tax refunds.

l. To any creditor Federal agency seeking assistance for the purpose of that agency implementing administrative or salary offset procedures in the collection of unpaid financial obligations owed the United States Government from an individual.

m. To any Federal agency where the individual debtor is employed or receiving some form of remuneration for the purpose of enabling that agency to collect debts on the employee's behalf by administrative or salary offset procedures under the provisions of the Debt Collection Act of 1982.

n. To the Internal Revenue Service, and state and local authorities for the purposes of locating a debtor to collect a claim against the debtor.

o. To any source from which additional information is requested by the FLRA relevant to an FLRA determination concerning an individual's pay, leave, or travel expenses, to the extent necessary to identify the individual, inform the source of the purpose(s) of the request, and to identify the type of information requested.

p. To the Social Security Administration and the Department of the Treasury to disclose pay data on an annual basis.

q. To the Social Security Administration to credit the employee or emergency worker account for Old-Age, Survivors, and Disability Insurance (OASDI) and Medicare deductions.

r. To the Federal Retirement Thrift Investment Board's record keeper, which administers the Thrift Savings Plan, to report deductions, contributions, and loan payments.

s. To a Federal agency or in response to a congressional inquiry when additional or statistical information is requested relevant to the FLRA Transit Fare Subsidy Program.

t. To the Department of Health and Human Services for the purpose of providing information on new hires and quarterly wages as required under the Personal Responsibility and Work Opportunity Reconciliation Act of 1996.

u. To the Office of Child Support Enforcement, Administration for Children and Families, Department of Health and Human Services for the purposes of locating individuals to establish paternity; establishing and modifying orders of child support; identifying sources of income; and for other child support enforcement actions as required by the Personal Responsibility and Work Opportunity Reconciliation Act (Welfare Reform Law, Pub. L. 104-193).

v. To the Office of Personnel Management or its contractors in connection with programs administered by that office, including, but not limited to, the Federal Long Term Care Insurance Program, the Federal Dental and Vision Insurance Program, the Flexible Spending Accounts for Federal Employees Program, and the electronic Human Resources Information Program.

w. To charitable institutions, when an employee designates an institution to receive contributions through salary deduction.

x. To any criminal, civil, or regulatory law enforcement authority (whether Federal, state, territorial, local, tribal or foreign) when a record, either alone or in conjunction with other information, indicates a violation or potential violation of law—criminal, civil, or regulatory in nature.

y. To the National Archives and Records Administration (NARA) to conduct records management inspections under the authority of 44 U.S.C. 2904 and 2906.

z. To an expert, consultant, grantee, or contractor (including employees of the contractor) of the FLRA that performs services requiring access to these records on the FLRA's behalf to carry out the purposes of the system, including employment verifications, unemployment claims, and W-2 services.

aa. To the Department of Labor for processing claims for employees, emergency workers, or volunteers injured on the job or claiming occupational illness.

bb. To appropriate agencies, entities, and persons when:

(1) The FLRA suspects or has confirmed that there has been a breach of the system of records;

(2) The FLRA has determined that as a result of the suspected or confirmed breach there is a risk of harm to individuals, the FLRA (including its information systems, programs, and operations), the Federal Government, or national security; and

(3) The disclosure made to such agencies, entities, and persons is reasonably necessary to assist in connection with the FLRA's efforts to respond to the suspected or confirmed breach or to prevent, minimize, or remedy such harm.

cc. To another Federal agency or Federal entity, when the FLRA determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

dd. To another Federal agency to provide information needed in the performance of official duties related to reconciling or reconstructing data files or to enable that agency to respond to an inquiry by the individual to whom the record pertains.

ee. To Federal, state, territorial, local, tribal, or foreign agencies that have requested information relevant or necessary to the hiring, firing or retention of an employee or contractor, or to the issuance of a security clearance, license, contract, grant or other benefit.

ff. To an agency or organization for the purpose of performing audit or oversight operations as authorized by law, but only such information as is necessary and relevant to such audit or oversight function.

gg. In an appropriate proceeding before a court, grand jury, or administrative or adjudicative body, when the FLRA determines that the records are arguably relevant to the proceeding, or in an appropriate proceeding before an administrative or adjudicative body when the adjudicator determines the records to be relevant to the proceeding.

hh. To the news media and the public, with the approval of the Agency Privacy Officer in consultation with counsel, when there exists a legitimate public interest in the disclosure of the information or when disclosure is necessary to preserve confidence in the integrity of the FLRA or is necessary to demonstrate the accountability of the FLRA's officers, employees, or individuals covered by the system, except to the extent it is determined that release of the specific information in the context of a particular case would constitute an unwarranted invasion of personal privacy.

POLICIES AND PRACTICES FOR STORAGE OF RECORDS:

Paper records are maintained in file folders stored within locking filing cabinets or locked rooms in secured facilities with controlled access. Electronic records are stored in computers, removable drives, storage devices, electronic databases, and other electronic media under the control of the FLRA, and in other Federal agency systems pursuant to interagency sharing agreements.

POLICIES AND PRACTICES FOR RETRIEVAL OF RECORDS:

Records may be retrieved by name, SSN, ECI, birth date, organizational code, or other assigned person.

POLICIES AND PRACTICES FOR RETENTION AND DISPOSAL OF RECORDS:

Records are maintained in accordance with General Records Schedule (GRS) 1.0 “Finance”, and GRS 2.0 “Human Resources,” which are approved by the National Archives and Records Administration. The system generally maintains temporary records, and retention periods vary based on the type of record under each item and the needs of the agency. Paper records are disposed of by shredding, and records maintained on electronic media are degaussed or erased in accordance with the applicable records retention schedule and NARA guidelines.

ADMINISTRATIVE, TECHNICAL, AND PHYSICAL SAFEGUARDS:

The records maintained in this system are safeguarded in accordance with FLRA security and privacy rules and policies. During normal hours of operations, paper records are maintained in locked files cabinets under the control of authorized personnel. Information technology systems follow the National Institute of Standards and Technology privacy and security standards developed to comply with the Privacy Act of 1974 as amended, 5 U.S.C. 552a; the Paperwork Reduction Act of 1995, Public Law 104-13; the Federal Information Security Modernization Act of 2014, Public Law 113-283, as codified at 44 U.S.C. 3551 et seq.; and the Federal Information Processing Standard 199, Standards for Security Categorization of Federal Information and Information Systems. Computer servers on which electronic records are stored are located in secured FLRA and DOI facilities with physical, technical and administrative levels of security to prevent unauthorized access to FLRA and DOI network and information assets. Security controls include encryption, firewalls, audit logs, and network system security monitoring. Electronic data is protected through user identification, passwords, database permissions and software controls. Access to records in the system is limited to authorized personnel who have a need to access the records in the performance of their official duties, and each person's access is restricted to only the functions and data necessary to perform that person's job responsibilities. System administrators and authorized users for both the FLRA and DOI are trained and required to follow established internal security protocols and must complete all security, privacy, and records management training, and sign Rules of Behavior for each agency.

RECORD ACCESS PROCEDURES:

Individuals wishing access to records about them should contact the System Manager. Individuals must furnish the following information for their records to be located and identified:

a. Full name.

b. Date of birth.Individuals requesting access must comply with the FLRA's Privacy Act regulations regarding access to records (5 CFR 2412.5).

CONTESTING RECORD PROCEDURES:

Individuals wishing to request amendment of records about them should contact the System Manager. Individuals must furnish the following information for their records to be located and identified:

a. Full name.

b. Date of birth.Individuals requesting amendment must follow the FLRA's Privacy Act regulations regarding amendment of records (5 CFR 2412.10).

NOTIFICATION PROCEDURES:

Individuals wishing to determine whether this system of records contains information about them should contact the System Manager. Individuals must furnish the following for their records to be located and identified:

a. Full name.

b. Date of birth.Individuals making inquiries must comply with the FLRA's Privacy Act regulations regarding the existence of records (5 CFR 2412.4).

EXEMPTIONS PROMULGATED FOR THE SYSTEM:

None.

HISTORY:

This system of records was last published at 45 FR 85316 (Dec. 24, 1980); 63 FR 1110 (Jan. 8, 1998).

Office of Inspector General Investigative Files, FLRA/OIG-1.

SECURITY CLASSIFICATION:

Unclassified.

SYSTEM LOCATION:

Office of Inspector General (OIG), Federal Labor Relations Authority, 1400 K Street, NW., Washington, DC 20424.

SYSTEM MANAGER:

Inspector General, Federal Labor Relations Authority, 1400 K Street NW., Washington, DC 20424.

AUTHORITY FOR MAINTENANCE OF THE SYSTEM:

The Inspector General Act of 1978, as amended, 5 U.S.C. Appendix 3.

PURPOSE OF THE SYSTEM:

These records are maintained to fulfill the purposes of the Inspector General Act of 1978, as amended and to fulfill responsibilities assigned by that Act concerning investigative activities.

CATEGORIES OF INDIVIDUALS COVERED BY THE SYSTEM:

Subjects of OIG investigations relating to the programs and operations of the FLRA. Subject individuals include, but are not limited to, current and former employees; contractors, subcontractors, their agents or employees; and others whose actions affect the FLRA, its programs, and operations.

CATEGORIES OF RECORDS IN THE SYSTEM:

Correspondence relating to the investigation; internal staff memoranda; copies of subpoenas issued during the investigation, affidavits, statements from witnesses, transcripts of testimony taken in the investigation and accompanying exhibits; documents, records, or copies obtained during the investigation; interview notes, investigative notes, staff working papers, draft materials, and other documents and records relating to the investigation; opening reports, progress reports, and closing reports; and other investigatory information or data relating to alleged or suspected criminal, civil, or administrative violations or similar wrongdoing by subject individuals.

RECORD SOURCE CATEGORIES:

Employees or other individuals on whom the record is maintained, non-target witnesses, FLRA and non-FLRA records.

ROUTINE USES OF RECORDS MAINTAINED IN THE SYSTEM, INCLUDING CATEGORIES OF USERS AND THE PURPOSES OF SUCH USES:

In addition to the disclosure generally permitted under 5 U.S.C. 552a(b) of the Privacy Act, these records or information in these records may be used pursuant to 5 U.S.C. 552a(b)(3):

a. To other agencies, offices, establishments, and authorities, whether Federal, State, local, foreign, or self-regulatory (including, but not limited to, organizations such as professional associations or licensing boards), authorized or with the responsibility to investigate, litigate, prosecute, enforce, or implement a statute, rule, regulation, or order, where the record or information, by itself or in connection with other records or information,

(1) Indicates a violation or potential violation of law, whether criminal, civil, administrative, or regulatory in nature, and whether arising by general statute or particular program statute, or by regulation, rule or order issued pursuant thereto, or;

(2) Indicates a violation or potential violation of a professional, licensing, or similar regulation, rule or order, or otherwise reflects on the qualifications or fitness of an individual licensed or seeking to be licensed.

b. To any source, private or governmental, to the extent necessary to secure from such source information relevant to and sought in furtherance of a legitimate investigation or audit of the OIG.

c. To agencies, offices, or establishments of the executive, legislative, or judicial branches of Federal, State, Tribal, or local government where disclosure is requested in connection with the award of a contract or other determination relating to a government procurement, or the issuance of a license, grant, or other benefit by the requesting agency, to the extent that the record is relevant and necessary to the requesting agency's decisions on the matter, including, but not limited to, disclosure to any Federal agency responsible for considering suspension or debarment actions where such record would be germane to a determination of the propriety or necessity of such action, or any Federal contract board of appeals in cases relating to an agency procurement.

d. To the Office of Personnel Management, the Office of Government Ethics, the Merit Systems Protection Board, the Office of Special Counsel, or the Equal Employment Opportunity Commission, of records or portions thereof relevant and necessary to carrying out their authorized functions, such as, but not limited to, rendering advice requested by the OIG, investigations of alleged or prohibited personnel practices (including discriminatory practices), appeals before official agencies, offices, panels, boards, or courts, and authorized studies or reviews of civil service or merit systems or affirmative action programs.

e. To independent auditors or other private firms with which the OIG has contracted to carry out an independent audit or investigation, or to analyze, collate, aggregate or otherwise refine data collected in the system of records, subject to the requirement that such contractors shall maintain Privacy Act safeguards with respect to such records.

f. To the Department of Justice and for disclosure by the Department of Justice or the FLRA,

(1) To the extent relevant and necessary in connection with litigation in proceedings before a court or other adjudicative body, where the government is a party to or has an interest in the litigation, and the litigation is likely to affect the agency or any component thereof, including where the agency, or an agency component, or an agency official or employee in his or her official capacity, or an individual agency official or employee whom the Department of Justice has agreed to represent, is a defendant; or

(2) For purposes of obtaining advice concerning the accessibility of a record or information under the Privacy Act or the Freedom of Information Act.

g. To a congressional office from the record of a subject individual in response to an inquiry from the congressional office made at the request of that individual, but only to the extent that the record would be legally accessible to that individual.

h. To any direct recipient of Federal funds, such as a contractor, where such record reflects serious inadequacies with a recipient's personnel and disclosure of the record is for purposes of permitting a recipient to take corrective action beneficial to the government.

i. To debt-collection contractors for the purpose of collecting debts owed to the government as authorized by the Debt Collection Act of 1982, 31 U.S.C. 3718.

j. To appropriate agencies, entities, and persons when (1) the FLRA suspects or has confirmed that there has been a breach of the system of records; (2) the FLRA has determined that as a result of the suspected or confirmed breach there is a risk of harm to individuals, the FLRA (including its information systems, programs, and operations), the Federal Government, or national security; and (3) the disclosure made to such agencies, entities, and persons is reasonably necessary to assist in connection with the FLRA's efforts to respond to the suspected or confirmed breach or to prevent, minimize, or remedy such harm.

k. To another Federal agency or Federal entity, when the FLRA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

l. To contractors, grantees, experts, consultants, students, and others performing or working on a contract, service, grant, cooperative agreement, or other assignment for the federal government, when necessary to accomplish an agency function related to this system of records.

m. To such recipients and under such circumstances and procedures as are mandated by federal statute or treaty.

POLICIES AND PRACTICES FOR STORAGE OF RECORDS:

These records may be in either paper or electronic form, consisting of files, audio or video recordings, disks, flash drives, or other electronic storage media.

POLICIES AND PRACTICES FOR RETRIEVAL OF RECORDS:

The records are retrieved by the name of the subject of the investigation or by a unique control number assigned to each investigation.

POLICIES AND PRACTICES FOR RETENTION AND DISPOSAL OF RECORDS:

Under approved FLRA records schedule N1-480-01-1:

OIG investigative files meeting one or more of the following criteria are kept indefinitely: (1) Cases involving senior agency personnel such as the Chairman; the Members; the Chief Counsels; the General Counsel; the Chief Administrative Law Judge; the Solicitor; the Executive Director; the Executive Director of the Federal Service Impasses Panel; or other senior officials who are either appointed officers or career employees; (2) cases resulting in extensive media coverage, either nationally or regionally; (3) cases resulting in further investigation by Congress; (4) cases involving substantial amounts of money (over $5,000); or (5) cases resulting in substantive changes in FLRA policies and procedures.

All other OIG investigative files are destroyed 10 years after the end of the fiscal year in which the case closes.

ADMINISTRATIVE, TECHNICAL, AND PHYSICAL SAFEGUARDS:

Records are maintained in lockable metal file cabinets in lockable rooms and in password-protected automated systems. Access is restricted to individuals whose duties require access to the records. File cabinets and rooms are locked during non-duty hours.

RECORD ACCESS PROCEDURES:

Individuals wishing to request access to records about them should contact the System Manager. Individuals must furnish their full name in order for their records to be located and identified. Individuals wishing to request access to records must comply with the FLRA's Privacy Act regulations regarding access to records (5 CFR 2412.5).

CONTESTING RECORD PROCEDURES:

Individuals wishing to request an amendment to their records should contact the System Manager. Individuals must furnish their full name in order for their records to be located and identified. Individuals requesting amendment must also follow the FLRA's Privacy Act regulations regarding amendments to records (5 CFR 2412.10).

NOTIFICATION PROCEDURES:

Individuals inquiring whether this system contains information about them should contact the System Manager. Individuals must furnish their full name in order for their records to be located and identified. Individuals making inquiries must comply with the FLRA's Privacy Act regulations regarding existence of records (5 CFR 2412.4).

EXEMPTIONS PROMULGATED FOR THE SYSTEM:

Pursuant to 5 U.S.C. 552a(j)(2), records in this system are exempt from the provisions of 5 U.S.C. 552a, except subsections (b), (c)(1) and (2), (e)(4)(A) through (F), (e)(6), (7), (9), (10), and (11), and (i), to the extent the system of records relates in any way to the enforcement of criminal laws.

Pursuant to 5 U.S.C. 552a(k)(2), the system is exempt from 5 U.S.C. 552a(c)(3), (d), (e)(1), (e)(4) (G), (H), and (I), and (f), to the extent the system of records consists of investigatory material compiled for law enforcement purposes, other than material within the scope of the exemption at 5 U.S.C. 552a(j)(2).

These exemptions are set forth in the Authority's Privacy Act regulations, 5 CFR part 2412, as amended; see 5 CFR 2412.16.

HISTORY:

This system of records was last published at 56 FR 33291 (July 19, 1991).

Notice of New System of Records

Freedom of Information Act Request and Appeal Files, FLRA/Internal-17.

SECURITY CLASSIFICATION:

Not applicable.

SYSTEM LOCATION:

FLRA Headquarters and Regional Offices and the Environmental Protection Agency's National Computer Center located at 109 T.W. Alexander Drive, Durham, NC 27709.

SYSTEM MANAGER:

Chief FOIA Officer, Office of the Solicitor, Federal Labor Relations Authority, 1400 K St. NW., Washington, DC 20424.

AUTHORITY FOR MAINTENANCE OF THE SYSTEM:

Freedom of Information Act, 5 U.S.C. 552.

PURPOSE OF THE SYSTEM:

To provide the public with a single location to submit and track FOIA requests and appeals filed with the FLRA, to manage internal FOIA administration activities, and to collect data for annual reporting requirements to the Department of Justice.

CATEGORIES OF INDIVIDUALS COVERED BY THE SYSTEM:

All persons requesting information or filing appeals under the Freedom of Information Act.

CATEGORIES OF RECORDS IN THE SYSTEM:

A copy of each Freedom of Information Act (FOIA) request received by the FLRA and a copy of all correspondence related to the request, including the requestors' names, mailing addresses, email addresses, phone numbers, Social Security Numbers, dates of birth, any aliases used by the requesters, alien numbers assigned to travelers crossing national borders, requesters' parents' names, user names and passwords for registered users, FOIA tracking numbers, dates requests are submitted and received, related appeals, and agency responses. Records also include communications with requesters, internal FOIA administrative documents (e.g., billing invoices) and responsive records.

RECORD SOURCE CATEGORIES:

Information in this system of records is provided by FLRA employees and FOIA requestors.

ROUTINE USES OF RECORDS MAINTAINED IN THE SYSTEM, INCLUDING CATEGORIES OF USERS AND PURPOSES OF SUCH USES:

In addition to the disclosure generally permitted under 5 U.S.C. 552a(b) of the Privacy Act, these records or information in these records may be used pursuant to 5 U.S.C. 552a(b)(3):

a. To disclose pertinent information to the appropriate Federal, State, or local agency responsible for investigating, prosecuting, enforcing, or implementing a statute, rule, regulation, or order, when the FLRA becomes aware of an indication of a violation or potential violation of civil or criminal law or regulation.

b. To provide information to a congressional office from the record of an individual in response to an inquiry from that congressional office made at the request of that individual.

c. In an appropriate proceeding before a court, grand jury, or administrative or adjudicative body, when the FLRA determines that the records are arguably relevant to the proceeding, or in an appropriate proceeding before an administrative or adjudicative body when the adjudicator determines the records to be relevant to the proceeding.

d. To a Federal, State, local, or foreign agency or entity for the purpose of consulting with that agency or entity to enable the FLRA to make a determination as to the propriety of access to or correction of information, or for the purpose of verifying the identity of an individual or the accuracy of information submitted by an individual who has requested access to or amendment of information.

e. To a Federal agency or entity that furnished the record or information for the purpose of permitting that agency or entity to make a decision as to access to or correction of the record or information, or to a federal agency or entity for purposes of providing guidance or advice regarding the handling of particular requests.

f. To a submitter or subject of a record or information in order to obtain assistance to the FLRA in making a determination as to access or amendment.

g. To a Member of Congress or staff acting upon the Member's behalf when the Member or staff requests the information on behalf of, and at the request of, the individual who is the subject of the record.

h. To disclose information to the National Archives and Records Administration, the Office of Government Information Services (OGIS), to the extent necessary to fulfill its responsibilities in 5 U.S.C. 552(h), to review administrative agency policies, procedures and compliance with FOIA, and to facilitate OGIS's offering of mediation services to resolve disputes between persons making FOIA requests and administrative agencies.

i. To appropriate agencies, entities, and persons when (1) the FLRA suspects or has confirmed that there has been a breach of the system of records; (2) the FLRA has determined that as a result of the suspected or confirmed breach there is a risk of harm to individuals, the FLRA (including its information systems, programs, and operations), the Federal Government, or national security; and (3) the disclosure made to such agencies, entities, and persons is reasonably necessary to assist in connection with the FLRA's efforts to respond to the suspected or confirmed breach or to prevent, minimize, or remedy such harm.

j. To another Federal agency or Federal entity, when the FLRA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

k. To contractors, grantees, experts, consultants, students, and others performing or working on a contract, service, grant, cooperative agreement, or other assignment for the federal government, when necessary to accomplish an agency function related to this system of records.

l. To such recipients and under such circumstances and procedures as are mandated by federal statute or treaty.

POLICIES AND PRACTICES FOR STORAGE OF RECORDS:

Records are stored in a secure, password-protected electronic system maintained by the Environmental Protection Agency called FOIAOnline, which utilizes security hardware and software, including multiple firewalls, active intruder detection and role-based accessed controls. Any paper records are stored in secure FLRA offices and/or lockable file cabinets.

POLICIES AND PRACTICES FOR RETRIEVAL OF RECORDS:

Requests are retrieved from the FOIAOnline system by numerous data elements and key word searches, including name, agency, dates, subject, FOIA tracking number, and other information retrievable with full-text searching capability.

POLICIES AND PRACTICS FOR RETENTION AND DISPOSAL OF RECORDS:

FOIA records are maintained for three years or longer, in accordance with item 001 of General Records Schedule 4.2, as approved by the Archivist of the United States. Disposal is by shredding and/or by deletion of the electronic record.

ADMINISTRATIVE, TECHNICAL, AND PHYSICAL SAFEGUARDS:

Computer records are maintained in a secure, password-protected computer system. Paper records are maintained in secure offices or lockable file cabinets. All records are maintained in secure, access-controlled areas or buildings.

RECORD ACCESS PROCEDURES:

Individuals wishing access to records about them should contact the System Manager. Individuals must furnish the following information for their records to be located and identified:

a. Full name.

b. Approximate date of FOIA request or appeal.

Individuals requesting access must comply with the FLRA's Privacy Act regulations regarding access to records (5 CFR 2412.5).

CONTESTING RECORD PROCEDURES:

Individuals wishing to request amendment of records about them should contact the System Manager. Individuals must furnish the following information for their records to be located and identified:

a. Full name.

b. Approximate date of FOIA request or appeal.

Individuals requesting amendment must follow the FLRA's Privacy Act regulations regarding amendment of records (5 CFR 2412.10).

NOTIFICATION PROCEDURES:

Individuals wishing to determine whether this system of records contains information about them should contact the System Manager. Individuals must furnish the following for their records to be located and identified:

a. Full name.

b. Approximate date of FOIA request or appeal.

Individuals making inquiries must comply with the FLRA's Privacy Act regulations regarding the existence of records (5 CFR 2412.4).

EXEMPTIONS PROMULGATED FOR THE SYSTEM:

None.

RESCINDMENT OF A SYSTEM OF RECORDS NOTICE

SYSTEM NAME AND NUMBER

FLRA/INTERNAL-1-Employee Occupational Health Program Records.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-4-Applicants for Employment Records.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-5-Preemployment Inquiry Records.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-7-Employee Incentive Award and Recognition Files.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-8-Employee Assistance Program Records.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-9-Federal Executive Development Program Records.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-11-Training Records.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-12-Performance Evaluation/Rating Records.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-13-Intern Program and Upward Mobility Program Records.

SYSTEM MANAGER:

Director, Human Resources Division, Federal Labor Relations Authority, 1400 K Street NW., Washington, DC 20424.

HISTORY:

This system of records was last published at 45 FR 85316 (Dec. 24, 1980).

RESCINDMENT OF A SYSTEM OF RECORDS NOTICE

SYSTEM NAME AND NUMBER

FLRA/INTERNAL-14-Motor Vehicle Accident Reports.

SYSTEM MANAGER:

Director, Administrative Services Division, Federal Labor Relations Authority, 1400 K Street NW., Washington, DC 20424.

HISTORY:

This system of records was originally published at 45 FR 85316 (Dec. 24, 1980) and was last published, as amended at 60 FR 50202 (Sep. 28, 1995).

RESCINDMENT OF A SYSTEM OF RECORDS NOTICE

SYSTEM NAME AND NUMBER

FLRA/INTERNAL-16-Occupational Injury and Illness Records.

SYSTEM MANAGER:

Director, Human Resources Division, Federal Labor Relations Authority, 1400 K Street NW., Washington, DC 20424.

HISTORY:

This system of records was last published at 45 FR 85316 (Dec. 24, 1980).

[FR Doc. 2017-23420 Filed 10-26-17; 8:45 am]

BILLING CODE 6727-01-P